DEPARTMENT OF THE INTERIOR

Fish and Wildlife Service

Endangered and Threatened Species Permit Applications

ACTION: Notice of Receipt of Applications.

SUMMARY: The following applicants have applied for a permit to conduct certain activities with endangered species. This notice is provided pursuant to section 10(a) of the Endangered Species Act of 1973, as amended (16 U.S.C. 1531, et seq.).

Permit No. TE-28605

Applicant: SWCA, Flagstaff, Arizona.

Applicant requests authorization for recovery purposes to conduct presence/absence surveys for the following endangered species in Arizona and New Mexico:

Mexican long-nosed bat (Leptonycteris nivalis)

lesser long-nosed bat (Leptonycteris curasoae yerbabuenae)

Hualapai Mexican vole (Microtus mexicanus hualpaiensis)

southwestern willow flycatcher (Empidonax traillii extimus)

cactus ferruginous pygmy-owl (Glaucidium brasilianum cactorum)

desert tortoise (Gopherus agassizii)

bonytail chub (Gila elegans)

humpback chub (Gila cypha)

Colorado pikeminnow (Ptychocheilus lucius)

razorback sucker (Xyrauchen texanus)

Gila topminnow (Poeciliopsis occidentalis)

woundfin (Plagopterus argentissimus)

Kanab ambersnail (Oxyloma haydeni kanabensis)

Pima pineapple cactus (coryphantha scheeri var. robustispina)

Permit No. TE-31666

Applicant: Prewitt & Associates, Austin, Texas.

Applicant requests authorization for scientific research and recovery purposes to collect the following endangered or threatened species in Texas:

Peck's Cave amphipod (Stygobromus pecki)

Coffin Cave Mold beetle (Batrisodes texanus)

Kretschmarr Cave Mold beetle (Texamaurops reddelli)

Tooth Cave ground beetle (Rhadine persephone)

Tooth Cave Pseudoscorpion (Tartarocreagris texana)

Bee Creek Cave harvestman (Texella reddelli)

Bone Cave harvestman (Texella reyesi)

Tooth Cave spider (Neoleptoneta myopica)

Texas blind salamander (Typhlomolge rathbuni)

Mexican long-nosed bat (Leptonycteris nivalis)

Barton Springs salamander (Eurycea sosorum)

The following species will not be collected but potentially impacted.

San Marcos salamander (Eurycea nana)

fountain darter (Etheostoma fonticola)

Big Bend gambusia (Gambusia gaigei)

Clear Creek gambusia (Gambusia heterochir)

Pecos gambusia (Gambusia nobilis)

San Marcos gambusia (Gambusia georgei)

Comanche Springs pupfish (Cyprinodon elegans)

Leon Springs pupfish (Cyprinodon bovinus)

Comal Springs dryopid beetle (Stygoparnus comalensis)

Comal Springs riffle beetle (Heterelmis comalensis)

Texas wild rice (Zizania texana)

Permit No. TE—19458

Applicant: National Park Service, Organ Pipe Cactus National Monument, Ajo, Arizona.

Applicant requests authorization for research and recovery purposes to establish and maintain a refugium to hold approximately 600 desert pupfish, subspecies Quitobaquito desert pupfish (Cyprinodon macularius eremus).

Permit No. TE—32576

Applicant: Tetra Tech EM Inc., Albuquerque, New Mexico.

Applicant requests authorization for recovery purposes to conduct presence/absence surveys for the southwestern willow flycatcher (Empidonax traillii extimus) in various counties in New Mexico.

DATES: Written comments on these permit applications must be received on or before October 19, 2000.

ADDRESSES: Written data or comments should be submitted to the Legal Instruments Examiner, Division of Endangered Species/Permits, Ecological Services, P.O. Box 1306, Albuquerque, New Mexico 87103. Please refer to the respective permit number for each application when submitting comments. All comments received, including names and addresses, will become part of the official administrative record and may be made available to the public.

FOR FURTHER INFORMATION CONTACT: The U.S. Fish and Wildlife Service, Ecological Services, Division of Endangered Species/Permits, P.O. Box 1306, Albuquerque, New Mexico 87103. Please refer to the respective permit number for each application when requesting copies of documents. Documents and other information submitted with these applications are available for review, subject to the requirements of the Privacy Act and Freedom of Information Act, by any party who submits a written request for a copy of such documents within 30 days of the date of publication of this notice, to the address above.

Stephen C. Helfert,
Acting Assistant Regional Director, Ecological Services, Region 2, Albuquerque, New Mexico.

[FR Doc. 00-23998 Filed 9-18-00; 8:45 am]

BILLING CODE 4310-55-P